DEPARTMENT OF HOUSING AND URBAN DEVELOPMENT

[Docket No. FR-5789-N-04]

Notice of Regulatory Waiver Requests Granted for the Fourth Quarter of Calendar Year 2014

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2014, and ending on December 31, 2014.

FOR FURTHER INFORMATION CONTACT: For general information about this notice, contact Camille E. Acevedo, Associate General Counsel for Legislation and Regulations, Department of Housing and Urban Development, 451 Seventh Street, SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2014.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2014 through December 31, 2014. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2014) before the next report is published (the first quarter of calendar year 2015), HUD will include any additional waivers granted for the fourth quarter in the next report.

Accordingly, information about approved waiver requests pertaining to HUD regulations is provided in the Appendix that follows this notice.

Dated: March 24, 2015.
Tonya T. Robinson,
Principal Deputy General Counsel.

APPENDIX

Listing of Waivers of Regulatory Requirements Granted by Offices of the Department of Housing and Urban Development October 1, 2014 through December 31, 2014

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Spokane Tribe of Indians requested a waiver of 24 CFR 58.22(a) for the demolition and new construction of the West End Community Center serving the Spokane Tribe in Wellpinit, WA. The waiver requested clearance for the demolition of the old community center prior to the Request for Release of Funds (RROF).

Nature of Requirement: The regulation at 24 CFR 58.22(a) provides that no entity may commit HUD assistance under a program listed in § 58.1(b) on any activity or project until HUD or the state has approved the recipient's RROF. In addition, until the RROF has been approved, no entity may commit non-HUD funds on an activity listed in § 58.1(b) if the activity would have an adverse environmental impact. Since the commitment of non-HUD funds violates only the regulation and not the statute, HUD may, if there is good cause, grant a waiver of the affected regulation. A waiver is required because the Spokane Tribe committed non-HUD funds to demolish the old West End Community Center facility prior to receiving an approved RROF.

Granted By: Clifford Taffet, General Deputy Assistant Secretary for Community Planning and Development.

Date Granted: December 10, 2014.

Reason Waived: It was determined that the project would further the HUD mission and advance HUD program goals to develop viable, quality communities. It was further determined that the Spokane Tribe of Indians did not knowingly violate the regulation, no HUD funds were committed, and based on the environmental assessment and field inspection, granting the waiver will not result in any unmitigated, adverse environmental impact.

Contact: Lauren Hayes, Office of Environment and Energy, Office of Community Planning and Development, Department of Housing and Urban Development, 451 Seventh Street SW., Room 7248, Washington, DC 20410, telephone (202) 402-4270.

• Regulations: 24 CFR 92.251(c) and 24 CFR 92.504(d).

Project/Activity: HUD, along with the U.S. Department of Agriculture and the U.S. Department of Treasury, developed the Physical Inspection Alignment Pilot Program to align physical inspection criteria and reduce the number of inspections for each property to no more than one visit per year while meeting the requirements of each federal funding source with a vested financial interest in the property. The waiver permitted pilot grantees to use the Uniform Physical Condition Standards as the minimum inspection standard for HOME-assisted rental property rather than Housing Quality Standards as currently required by 24 CFR 92.251(c) and allows for more frequent inspections than are required for inspection frequency under 24 CFR 92.504(d). The following participating jurisdictions were granted a limited waiver of HOME property standards for participating in HUD's Physical Inspections Alignment Pilot Program: the State of Kentucky, the State of Louisiana, the State of Minnesota, the State of Missouri, the State of New Mexico, the State of Texas, the State of Wisconsin and the State of Vermont.

Nature of Requirements: The regulation at 24 CFR 92.251(c) identifies the property standards for property acquired with HOME assistance. The regulation at 24 CFR 92.504(d) requires the participating jurisdiction to inspect each project at project completion and during the period of affordability to determine that the project meets the property standards of 24 CFR 92.251.

Granted By: Clifford Taffet, General Deputy Assistant Secretary for Community Planning and Development.

Date Granted: November 5, 2014.

Reasons Waived: The waiver was granted to reduce duplicative inspection for grantees participating in the Physical Inspection Alignment Pilot Program. HUD estimates that one periodically-scheduled physical inspection may result in 20,000 fewer property inspections per year by federal agencies, which will reduce the cost of program oversight and create efficiencies for the government, property owners, and for residents of affordable housing whose apartments are subject to inspection. The waiver was effective until December 31, 2014 and limited to Combined Funding Properties included in the 2014 Physical Inspection Alignment Pilot Program.

Contact: Virginia Sardone, Director, Office of Affordable Housing Programs, Office of Community Planning and Development, Department of Housing and Urban Development, 451 Seventh Street SW., Room 7164, Washington, DC 20410, telephone (202) 708-2684.

• Regulation: 24 CFR 570.200(h).

Project/Activity: On October 21, 2014, HUD issued a CPD Notice implementing procedures to govern the submission and review of consolidated plans and action plans for FY 2015 funding prior to the enactment of a FY 2015 HUD appropriation bill. These procedures apply to any Entitlement, Insular or Hawaii nonentitlement grantee with a program year start date prior to, or up to 60 days after, HUD's announcement of the FY 2015 formula program funding allocations for CDBG, ESG, HOME and HOPWA formula funding. Any grantee with an FY 2015 program year start date during the period starting October 1, 2014, and ending August 16, 2015 or 60 days after HUD announcement of FY 2015 allocation amounts (whichever comes first), is advised not to submit its consolidated plan/action plan until the FY 2015 formula allocations have been announced.

Nature of Requirement: The Entitlement CDBG program regulations provide for situations in which a grantee may incur costs against its CDBG grant prior to the award of its grant from HUD. Under the regulations, the effective date of a grantee's grant agreement is either the grantee's program year start date or the date that the grantee's annual action plan is received by HUD, whichever is later. This waiver allowed grantees to treat the effective date of the FY 2015 program year as the grantee's program year start date or date or the date that the grantee's annual action plan is received by HUD, whichever is earlier.

Granted By: Clifford Taffet, General Deputy Assistant Secretary for Community Planning and Development.

Date Granted: September 25, 2014, for effect on October 21, 2014.

Reason Waived: Under the provisions of the CPD Notice, a grantee's action plan may not be submitted to (and thus received by) HUD until several months after the grantee's program year start date. Lengthy delays in the receipt of annual appropriations by HUD, and implementation of the policy to delay submission of FY 2015 Action Plans, may have negative consequences for CDBG grantees that intend to incur eligible costs prior to the award of FY 2015 funding. Some activities might otherwise be interrupted while implementing these revised procedures. In addition, grantees might not otherwise be able to use CDBG funds for planning and administrative costs of administering their programs. In order to address communities' needs and to ensure that programs can continue without disturbance, this waiver allowed grantees to incur pre-award costs on a timetable comparable to that under which grantees have operated in past years. HUD advised grantees that this waiver is available for use by any applicable CDBG grantee whose action plan submission is delayed past the normal submission date because of delayed enactment of FY 2015 appropriations for the Department. This waiver authority is only in effect until August 16, 2015.

Contact: Steve Johnson, Director, Entitlement Communities Division, Office of Block Grant Assistance, Office of Community and Planning Development, Department of Housing and Urban Development, 451 7th Street SW., Room 7282, Washington, DC 20410, telephone (202) 708-1577.

• Regulation: 24 CFR 570.208(a)(l)(vi).

Project/Activity: Spokane County, WA requested a waiver of 24 CFR 570.208(a)(l)(vi) to allow the use of prior Low and Moderate Income Summary Data (LMISD) for an infrastructure activity in the town of Fairfield in order to demonstrate compliance with the low- and moderate-income benefit national objective requirements.

Nature of Requirement: HUD's regulation at 24 CFR 570.208(a)(l)(vi) requires that the most recently available decennial census information must be used to the fullest extent feasible, together with the section 8 income limits that would have applied at the time the income information was collected by the Census Bureau, to determine whether there is a sufficiently large percentage of low- and moderate-income persons residing in the area served by a CDBG funded activity. The HUD-produced Low and Moderate Income Summary Data provide this data to grantees. On June 10, 2014, HUD issued new Low and Moderate Income Summary Data, with an effective date of July 1, 2014 for use by grantees.

Granted By: Clifford Taffet, General Deputy Assistant Secretary for Community Planning and Development.

Date Granted: November 4, 2014.

Reason Waived: The Fairfield water line infrastructure activity had been in the planning stage for many months, and was included in the county's FY 2014 Annual Action Plan. However, funds were not obligated by the county to the activity prior to July 1, 2014 and July 1 was the county's program year start date. The service area for this activity no longer qualified under the new LMISD. However, the county explained that the town of Fairfield's demographic characteristics, with a population of 665, almost remained the same since the previous LMISD was issued, and that the American Community Survey (ACS) sampling methodology resulted in this change, not a decrease in the number of low- and moderate-income persons. The urgency of repairing the water lines made it difficult to complete a special survey in time. The county estimated that it would cost close to $20,000 to conduct a survey to demonstrate that the service area of the activity meets the low- and moderate-income area benefit national objective criteria. The waiver allowed the county to continue to use the prior Low and Moderate Income Summary Data to demonstrate compliance with the low- and moderate-income benefit national objective requirements.

Contact: Steve Johnson, Director, Entitlement Communities Division, Office of Block Grant Assistance, Office of Community and Planning Development, Department of Housing and Urban Development, 451 Seventh Street SW., Room 7282, Washington, DC 20410, telephone (202) 708-1577.

• Regulation: 24 CFR 570.208(a)(l)(vi).

Project/Activity: King County, WA requested a waiver of 24 CFR 570.208(a)(l)(vi) to allow the use of prior Low and Moderate Income Summary Data (LMISD) for two infrastructure activities in order to demonstrate compliance with the low- and moderate-income benefit national objective requirements.

Nature of Requirement: HUD's regulation at 24 CFR 570.208(a)(l)(vi) requires that the most recently available decennial census information must be used to the fullest extent feasible, together with the section 8 income limits that would have applied at the time the income information was collected by the Census Bureau, to determine whether there is a sufficiently large percentage of low- and moderate-income persons residing in the area served by a CDBG funded activity. The HUD-produced Low and Moderate Income Summary Data provide this data to grantees. On June 10, 2014, HUD issued new Low and Moderate Income Summary Data, with an effective date of July 1, 2014 for use by grantees.

Granted By: Clifford Taffet, General Deputy Assistant Secretary for Community Planning and Development.

Date Granted: November 18, 2014.

Reason Waived: The request pertained to two infrastructure activities, which had been in the planning stage for many months, and were included in the county's FY 2014 Annual Action Plan. However, funds were not obligated by the county to these activities prior to July 1, 2014. The county documented that the available Low and Moderate Income Summary Data covered an area larger than the actual service areas for the two activities, and was not representative of the income characteristics of the activity service area residents. It was determined that unless the waiver was granted to the county, these activities that directly benefit the health and safety of residents would not be implemented due to the lack of expertise and funds needed to conduct special surveys to qualify the service areas. The waiver allowed the county to continue to use the prior Low and Moderate Income Summary Data to demonstrate compliance with the low- and moderate-income benefit national objective requirements.

Contact: Steve Johnson, Director, Entitlement Communities Division, Office of Block Grant Assistance, Office of Community and Planning Development, Department of Housing and Urban Development, 451 Seventh Street SW., Room 7282, Washington, DC 20410, telephone (202) 708-1577.

• Regulation: 24 CFR part 576.403(c).

Project/Activity: Louisville-Jefferson County, KY Metro Government requested a waiver of § 576.403(c) to allow the Legal Aid Society to provide legal services under the homelessness prevention component to program participants who want to stay in their units, even if the units do not meet the habitability standards. The waiver would allow those program participants receiving the legal services to receive the case management required at § 576.401(d) and (e) even if their units do not meet the habitability standards. The waiver was contingent upon the commitment of the recipient, its subrecipient, Legal Aid Society, and the subrecipient(s) providing the required case management to work with the property owners to bring the units into compliance with the habitability standards or assist the program participants to move if the units are unsafe.

Nature of Requirement: The regulation at § 576.403(c) states that the recipient or subrecipient cannot use ESG funds to help a program participant remain in or move into housing that does not meet the ESG minimum habitability standards for permanent housing.

Granted By: Cliff Taffet, General Deputy Assistant Secretary for Community Planning and Development.

Date Granted: December 10, 2014.

Reason Waived: HUD recognized that in certain instances, the best way to help program participants avoid homelessness is to keep them in their housing until better housing can be located, or their existing housing can be brought up to code. Legal services provide an important resource for persons who are at risk of homelessness, who need immediate assistance to help them avoid moving to the streets or emergency shelters. In some instances, it is not feasible to inspect a unit to ensure that it meets the habitability standards prior to the provision of the legal services assistance necessary to prevent homelessness for the individual or family. Also in some cases, the habitability requirement actually prohibits eligible program participants from receiving the legal services that could assist them to make the unit habitable and stabilize them in their housing.

Contact: Norm Suchar, Director, Office of Special Needs Assistance Programs, Office of Community Planning and Development, Department of Housing and Urban Development, 451 Seventh Street SW., Room 7262, Washington, DC 20410, telephone (202) 708-4300.

II. Regulatory Waivers Granted by the Office of Housing—Federal Housing Administration (FHA)

For further information about the following regulatory waivers, please see the name of the contact person that immediately follows the description of the waiver granted.

• Regulation: 24 CFR 219.220(b).

Project/Activity: St. James A.M.E Tower Apartments, FHA Project Number 031-018NISUP, Newark, NJ. The Owners have requested deferral of repayment of the Flexible Subsidy Operating Assistance Loan on this project due to their inability to repay the loan in full upon prepayment of the 236 Loan.

Nature of Requirement: Section 219.220(b)(1995) governs the repayment of operating assistance provided under the Flexible Subsidy Program for Troubled Projects states “Assistance that has been paid to a project owner under this subpart must be repaid at the earlier of expiration of the term of the mortgage, termination of mortgage insurance, prepayment of the mortgage, or a sale of the project (Transfer of Physical Assets (TPA)) if the Secretary so requires at the time of approval of the TPA.” Either of these actions would typically terminate FHA involvement with the property, and the Flexible Subsidy Loan would be repaid, in whole, at that time.

Granted by: Biniam T. Gebre, Acting Assistant Secretary for Housing-Federal Housing Commissioner.

Date Granted: December 30, 2014.

Reason Waived: The owner requested and was granted waiver of the requirement to defer repayment of the Flexible Subsidy Operating Assistance Loan to allow the much needed preservation and moderate rehabilitation of the project. The project will be preserved as an affordable housing resource of Newark, NJ.

Contact: John Ardovini, Restructuring Analyst, Office of Affordable Housing Preservation, Office of Housing, Department of Housing and Urban Development, 451 Seventh Street SW., Washington, DC 20410, telephone (202) 402-2636.

• Regulation: 24 CFR 219.220(b).

Project/Activity: CWA Apartments II FHA Number TN43L000016 is a project based Section 8 Loan Management Set-Aside (LMSA) contract encumbering a76-units for low- income families located in Nashville, Tennessee. The project consists of 76 two-bedroom units. The contract expires on August 31, 2017. On September 1, 1994, a Flexible Subsidy Loan was awarded in the amount of $1,659,585 at one percent per annum.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project. . .” Either of these actions would typically terminate FHA involvement with the property, and the Flexible Subsidy Loan would be repaid, in whole, at that time.

Granted by: Carol J. Galante, Assistant Secretary for Housing-Federal Housing Commissioner.

Date Granted: October 7, 2014.

Reason Waived: The owner requested and was granted waiver because good cause was shown that it is in the public's best interest to grant this waiver. The owner executed and recorded a Rental Use Agreement that extended the affordability of the property for 20 years and amended the Residual Receipts Note to reflect the monthly payments. These documents were simultaneously assumed by the purchaser.

Contact: Marilynne Hutchins, Office of Asset Management and Portfolio Oversight (OAMPO), Office of Housing, Department of Housing and Urban Development, 451 Seventh Street SW., Room 6174, Washington, DC 20410, telephone (202) 402-4323.

• Regulation: 24 CFR 219.220(b).

Project/Activity: CWA Apartments I Contract number TN43-L000-015 apartments CWA Apartments I is a 176-unit multifamily project which consists of 20 two-bedroom units and 156 three-bedroom units. The property was financed with a mortgage insured pursuant to Section 221(d)(3) of the National Housing Act, which has now matured and is paid in full. The Loan Management Set-Aside (LMSA) Housing Assistance Payments (HAP) contract covers all 176 units. The HAP contact expires on August 31, 2017. In 1995, the project was awarded a Flexible Subsidy Loan in the amount of $3,508,629 with one percent interest rate. As of September 29, 2014, the Flexible Subsidy Loan's unpaid balance is $4,141,194, including accrued interest.

Nature of Requirement: The regulation at 24 CFR 219.220(b)(1995), which governs the repayment of operating assistance provided under the Flexible Subsidy Program for Troubled Projects states, “Assistance that has been paid to a project Owner under this subpart must be repaid at the earlier of expiration of the term of the mortgage, termination of mortgage insurance, prepayment of the mortgage, or a sale of the project.”

Granted by: Carol J. Galante, Assistant Secretary for Housing-Federal Housing Commissioner.

Date Granted: October 7, 2014.

Reason Waived: The owner requested and was granted waiver because good cause was shown that it is in the public's best interest to grant this waiver. The owner executed and recorded a Rental Use Agreement that extended the affordability of the property for 20 years and amended the Residual Receipts Note to reflect the monthly payments. These documents were simultaneously assumed by the purchaser.

Contact: Marilynne Hutchins, Office of Asset Management and Portfolio Oversight (OAMPO), Office of Housing, Department of Housing and Urban Development, 451 Seventh Street SW., Room 6174, Washington, DC 20410, telephone (202) 402-4323.

• Regulation: 24 CFR 219.220(b).

Project/Activity: Cathedral Terrace Apartments FHA number 063-44007 is a 240-unit high-rise project for low- income and very low-income tenants. The mortgage was insured pursuant to Section 236(j)(1) of the National Housing Act and received its final endorsement on November 22, 1974, in the amount of $4,919,500. A Section 8 Loan Management Set-Aside (LMSA) contract subsidizes 224 units and expires on June 30, 2034. The mortgage matured on November 1, 2014, which triggered the repayment of the Flexible Subsidy Loans

Nature of Requirement: The regulation at 24 CFR 219.220(b) (1995), which governs the repayment of operating assistance provided under the Flexible Subsidy Program for Troubled Properties, states “Assistance that has been paid to a project Owner under this subpart must be repaid at the earlier of the expiration of the term of the mortgage, termination of mortgage insurance, prepayment of the mortgage, or a sale of the project.”

Granted by: Biniam Gebre, Acting Assistant Secretary for Housing-Federal Housing Commissioner.

Date Granted: December 30, 2014.

Reason Waived: The owner requested and was granted waiver to permit the deferment of repayment of the Flexible Subsidy Loans, plus accrued interest for a period of one year. The requested waiver was for the subject property only. The owner executed and recorded a Rental Use Agreement that would be superior to all liens. The Rental Use Agreement extended the project affordability 20 years from the date of the original mortgage maturity.

Contact: Judith Bryant, Office of Asset Management and Portfolio Oversight (OAMPO), Office of Housing, Department of Housing and Urban Development, 451 Seventh Street SW., Room 6174, Washington, DC 20410, telephone (202) 402-4891.

• Regulation: 24 CFR 232.7.

Project/Activity: Maple Ride of Plover Memory care is a 20 bed memory care facility. The facility does not meet the FHA “Bathroom “requirements at 24 CFR 232.7. The project is located in Plover, WI.

Nature of Requirement: The regulation mandates in a board and care home or assisted living facility that not less than one full bathroom must be provided for every four residents. Also, the bathroom cannot be accessed from a public corridor or area.

Granted By: Carol J. Galante, Assistant Secretary for Housing-Federal Housing Commissioner.

Date Granted: October 7, 2014.

Reason Waived: The project is for memory care, all rooms have half-bathrooms and the resident to full bathroom ratio is 5:1.

Contact: Vance T. Morris, Special Assistant, Office of Healthcare Programs, Office of Housing, Department of Housing and Urban Development, 451 Seventh Street SW., Room 2337, Washington, DC 20401, telephone (202) 402-2419.

• Regulation: 24 CFR 232.7.

Project/Activity: Senior Suites of Urbandale is an assisted living and memory care facility. The facility does not meet the FHA “Bathroom “requirements at 24 CFR 232.7. The project is located in Urbandale, IA.

Nature of Requirement: The regulation mandates that in a board and care home or assisted living facility that the not less than one full bathroom must be provided for every four residents. Also, the bathroom cannot be accessed from a public corridor or area.

Granted By: Biniam Gebre, Acting, Assistant Secretary for Housing-Federal Housing Commissioner.

Date Granted: November 24, 2014.

Reason Waived: The project is currently FHA insured and presents no additional financial risks to HUD.

Contact: Vance T. Morris, Special Assistant, Office of Healthcare Programs, Office of Housing, Department of Housing and Urban Development, 451 Seventh Street SW., Room 2337, Washington, DC 20401, telephone (202) 402-2419.

• Regulation: 24 CFR 232.505(a), 232.520, 232.540(b), 232.605 and 232.620.

Project/Activity: Supplemental Loans to Finance Purchase and Installation of Fire Safety Equipment.

Nature of Requirement: Waiver of provisions 232.505(a), 232.520, 232.540(b), 232.605 and 232.620 that do not reflect current processing requirements, as these regulatory procedures and protocols were established in 1974.

Granted By: Carol J. Galante, Assistant Secretary for Housing-Federal Housing Commissioner.

Date Granted: October 21, 2014.

Reason Waived: There is an urgent need to install automatic fire sprinkler systems in nursing homes due to a new federal mandate.

Contact: Vance T. Morris, Special Assistant, Office of Healthcare Programs, Office of Housing, Department of Housing and Urban Development, 451 Seventh Street SW., Room 2337, Washington, DC 20401, telephone (202) 402-2419.

• Regulation: 24 CFR 891.100(d).

Project/Activity: Teaneck Senior Housing, Teaneck, NJ, Project Number: 031-EE077/NJ39-S091-004.

Nature of Requirement: Section 891.100(d) prohibits amendment of the amount of the approved capital advance funds prior to closing.

Granted by: Carol J. Galante, Assistant Secretary for Housing-Federal Housing Commissioner.

Date Granted: October 3, 2014.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6180, Washington, DC 20410, telephone (202) 708-3000.

• Regulation: 24 CFR 891.100(d).

Project/Activity: Allen House, Millstone, NJ, Project Number: 031-EE083/NJ39-S101-006.

Nature of Requirement: Section 891.100(d) prohibits amendment of the amount of the approved capital advance funds prior to closing.

Granted by: Carol J. Galante, Assistant Secretary for Housing-Federal Housing Commissioner.

Date Granted: October 3, 2014.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6180, Washington, DC 20410, telephone (202) 708-3000.

• Regulation: 24 CFR 891.100(d).

Project/Activity: Our Lady of Assumption Apts., Abbeville, LA, Project Number: 064-EE243/LA48-S091-012.

Nature of Requirement: Section 891.100(d) prohibits amendment of the amount of the approved capital advance funds prior to closing.

Granted by: Carol J. Galante, Assistant Secretary for Housing-Federal Housing Commissioner.

Date Granted: October 3, 2014.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: Bill Sorro Community, San Francisco, CA, Project Number: 121-HD097/CA39-Q101-003.

Nature of Requirement: Section 891.165 provides that the duration of the fund reservation of the capital advance is 18 months from the date of issuance with limited exceptions up to 36 months, as approved by HUD on a case-by-case basis.

Granted by: Carol J. Galante, Assistant Secretary for Housing-Federal Housing Commissioner.

Date Granted: October 22, 2014.

Reason Waived: Additional time was needed in order to meet the construction lender's loan requirement for this capital advance upon completion mixed-finance project.

Contact: Catherine M. Brennan, Director, Office of Housing Assistance and Grant Administration, Office of Housing, Department of Housing and Urban Development, 451 Seventh Street SW., Room 6180, Washington, DC 20410, telephone (202) 708-3000.

• Regulation: Requirements of Mortgagee Letter 2011-22, Condominium Project Approval and Processing Guide, Insurance Requirements.

Project/Activity: Extension of initial waiver issued November 27, 2013, providing an exemption to the insurance requirements defined in Mortgagee Letter 2011-22, Condominium Project Approval and Processing Guide.

Nature of Requirement: Section 2.1.9 of the Condominium Project Approval and Processing Guide, Insurance Requirements, defines the condominium project insurance requirements that must be met for issuance of FHA condominium project approval. The extension of the initial waiver allows for acceptance of individual insurance policies issued to the unit owners for Manufactured Housing, Detached and Common Interest Condominium Projects unable to satisfy the insurance requirements.

Granted by: Biniam Gebre, Acting Assistant Secretary for Housing-Federal Housing Commissioner.

Date Granted: November 27, 2014.

Reason Waived: The extension of the waiver previously issued that allows unit owners to obtain and maintain their own insurance coverage is required to ensure the continued availability of a condominium unit as an affordable housing option. Issuance of the extension is consistent with the Department's objectives to expand the availability of FHA mortgage insurance, while providing appropriate safeguards.

Contact: Joanne B. Kuczma, Housing Program Officer, Office of Single Family Program Development, Office of Housing, Department of Housing and Urban Development, 451 Seventh Street SW., Washington, DC 20410, telephone (202) 402-2137.

III. Regulatory Waivers Granted by the Office of Public and Indian Housing

For further information about the following regulatory waivers, please see the name of the contact person that immediately follows the description of the waiver granted.

• Regulation: 24 CFR 5.801(d)(1).

Project/Activity: Olean Housing Authority (NY093), Olean NY.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: October 1, 2014.

Reason Waived: The final approval of the annual audit was postponed due to three weather related cancellations of meetings of the Board of Commissioners. The audit was completed in December 2013, but was inadvertently not submitted. Due to the Departments' delayed response and the fact that the audited financials have been submitted and approved, the housing authority was granted a one-time waiver.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: The Municipality of Fajardo (RQ036) Fajardo, PR

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: October 13, 2014.

Reason Waived: The audited reporting requirements were delayed due to the unforeseen death of your predecessor auditor. The additional time was needed to enable the successor auditor to review and process for final approval. Due to the Departments' delayed response and the fact that the audited financial report was approved on August 28, 2014, the housing authority was granted this one-time waiver.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: City of Mesa Housing Authority (AZ005) Mesa AZ.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: October 14, 2014.

Reason Waived: The delayed submission was a result of the process to implement a new ERP Integrated Information System during 2013. The agency is component unit and must wait until the city-wide audit was complete before processing the audited financial data. The agency incurred a turnover in staff prior to closing your 2013 books and that additional time was needed for IPA review and final submission. Due to the Department's delayed response and the fact that your audited financial report was approved on July 22, 2014, the housing authority was granted this one-time waiver.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: South Tucson Housing Authority (AZ025) South Tucson, AZ

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: November 19, 2014.

Reason Waived: The delayed submission was a result of the City of South Tucson's inability to obtain an extension from OMB to complete its Single Audit requirement. The agency was a component unit and waited until the city-wide audit was completed before processing the audited financial data for submission. Due to the Department's delayed response and the fact that the audited financial report was approved on August 27, 2014, the housing authority was granted a one-time waiver.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: Mercedes Housing Authority (TX029) Mercedes, TX

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: November 26, 2014.

Reason Waived: The delayed submission was due to issues between the independent auditor and the Texas State Board. The State Board required the agency to seek a second review from another independent auditor. However, due to human resource issues and scheduled vacation, the advising auditor could not complete the audit in time to submit your audited financial data by the due date. The agency's audited financial data was approved on September 4, 2014, therefore, the housing authority was granted a one-time waiver.

Contact: Judy Wojciechowski, Program Manager, NASS, Real Estate Assessment Center, Office of Public and Indian Housing, Department of Housing and Urban Development, 550 12th Street SW., Suite 100, Washington, DC 20410, telephone (202) 475-7907.

• Regulation: Notices PIH 2013-3 and PIH 20013-26: Public Housing and Housing Choice Voucher Programs—Temporary Compliance Assistance.

Project/Activity: PIH Notice 2013-3 was issued to establish temporary guidelines for public housing agencies (PHAs) in fulfilling certain public housing and housing choice voucher requirements during the current and upcoming fiscal year to alleviate some of the burden on already stressed PHA resources. The reduction of burden provided in this notice involved offering PHAs the option to comply with certain alternative requirements to existing regulations, and if they opted to do so the existing regulation would be waived. Issuance of this notice was reported in HUD's Quarterly Regulatory Waiver report published in the Federal Register on September 13, 2013, at 78 FR 56912, at 56916. On November 5, 2013, PIH extended the availability of the alternative requirements to existing regulations through March 31, 2015. The following housing authorities obtained regulatory waivers under these notices: Housing Authority of the Birmingham District, AL; Housing Authority of the City of Huntsville, AL; Enterprise Housing Authority, AL; Albertville Housing Authority, AL; Gordo Housing Authority, AL; Searcy Housing Authority, AR; Lonoke County Housing Authority, AR; Jonesboro Urban Renewal Housing Authority, AR; City of Phoenix Housing Department, AZ; Housing and Community Development Tucson, AZ; Housing Authority of Maricopa County, AZ; Yuma County Housing Department, AZ; Chandler Housing & Redevelopment Division, AZ; Tempe Housing Authority, AZ; Pima County Housing Authority, AZ; Housing Authority of the City & County of San Francisco, CA; Housing Authority of the City of Los Angeles, CA; City of Sacramento Housing Authority, CA; Housing Authority City of Fresno, CA; Housing Authority of Fresno County, CA; County of Sacramento Housing Authority, CA; Housing Authority of the County of Kern, CA; Tulare County Housing Authority, CA; Housing Authority of the City of San Buenaventura, CA; Regional Housing Authority of Sutter & Nevada Co, CA.; Housing Authority of County of Marin, CA; Housing Authority of the City of Vallejo, CA; City of Pittsburg Housing Authority, CA; Housing Authority of the City of San Luis Obispo, CA; Alameda County Housing Authority, CA; Santa Cruz County Housing Authority, CA; Housing Authority of the City of Pasadena, CA; Mendocino County Housing Authority, CA; County of Sonoma Housing Authority, CA; Yuba County Housing Authority, CA; Housing Authority of the County of San Diego, CA; Housing Authority of the City of Norwalk, CA; City of Hollister Housing Authority, CA; City of Vacaville Housing Authority, CA; City of Roseville Housing Authority, CA; County of Solano Housing Authority, CA; City of Oceanside Community Development Commission, CA; Housing Authority of the City and County of Denver, CO; Wellington Housing Authority, CO; Housing Authority of the City of Greeley, CO; Littleton Housing Authority, CO; Fort Collins Housing Authority, CO; Englewood Housing Authority, CO; Lakewood Housing Authority, CO; Arvada Housing Authority, CO; Aurora Housing Authority, CO; Housing Authority of Weld County, CO; Larimer County Housing Authority, CO; Colorado Division of Housing, CO; Housing Authority of the City of Bridgeport, CT; Housing Authority of the City of Stamford, CT; Housing Authority of the City of Danbury, CT; West Haven Housing Authority, CT; Tampa Housing Authority, FL; Sarasota Housing Authority, FL; Housing Authority of Pompano Beach, FL; Housing Authority of the City of Fort Myers, FL; Milton Housing Authority, FL; Pinellas County Housing Authority, FL; Gainesville Housing Authority, FL; City of Pensacola Housing Office, FL; Housing Authority of Boca Raton, FL; Housing Authority of Lee County, FL; Housing Authority of the City of Athens, GA; Housing Authority of the City of Macon, GA; Housing Authority of the City of LaGrange, GA; Housing Authority of the City of Conyers, GA; Housing Authority of Fulton County, GA; Hawaii Public Housing Authority, HI; Kauai County Housing Agency, HI; City of Sioux City Housing Authority, IA; Des Moines Municipal Housing Agency, IA; City of Iowa City Housing Authority, IA; Boise City Housing Authority, ID; Southwestern Idaho Cooperative Housing Authority, ID; Idaho Housing and Finance Association, ID; Ada County Housing Authority, ID; Decatur Housing Authority, IL; Rockford Housing Authority, IL; Housing Authority Cook County, IL; Pike County Housing Authority, IL; Aurora Housing Authority of the City of Aurora, IL; Housing Authority of the Village of Oak Park, IL; Housing Authority of the City of New Albany, IN; Housing Authority of the City of Evansville, IN; Housing Authority of the City of Michigan City, IN; Housing Authority of the City of Terre Haute, IN; Brazil Housing Authority, IN; Cannelton Housing Authority, IN; Housing Authority of the City of Lafayette, IN; Housing Authority of the City of Peru, IN; Indiana Housing and Community Development Authority, IN; Wichita Housing Authority, KS; Holton Housing Authority, KS; Atchison Housing Authority, KS; Great Bend Housing Authority, KS; Wamego Housing Authority, KS; Housing Authority of Paducah, KY; Housing Authority of Somerset, KY; Housing Authority of Owensboro, KY; Housing Authority of Newport, KY; Housing Authority of Cynthiana, KY; Housing Authority of Glasgow, KY; Housing Authority of Owenton, KY; Bowling Green CDA, KY; Kentucky Housing Corporation-State Agency, KY; Ouachita Parish Police Jury, LA; Boston Housing Authority, MA; Taunton Housing Authority, MA; Lynn Housing Authority, MA; Newton Housing Authority, MA; Braintree Housing Authority, MA; Salem Housing Authority, MA; Holden Housing Authority, MA; Leominster Housing Authority, MA; Franklin County Regional Housing Authority, MA; Department of Housing & Community Development. MA; Hagerstown Housing Authority, MD; Rockville Housing Enterprises, MD; Elkton Housing Authority, MD; Portland Housing Authority, ME; Brunswick Housing Authority, ME; Auburn Housing Authority, ME; Housing Authority City of Bangor, ME; Biddeford Housing Authority, ME; Saco Housing Authority, ME; Maine State Housing Authority, ME; Detroit Housing Commission, MI; Inkster Housing Commission, MI; Eastpointe Housing Commission, MI; Cadillac Housing Commission, MI; Ann Arbor Housing Commission, MI; Traverse City Housing Commission, MI; Lapeer Housing Commission, MI; Wyoming Housing Commission, MI; Saranac Housing Commission, MI; Potterville Housing Commission, MI; Ingham County Housing Commission, MI; Michigan State Housing Development Authority, MI; Public Housing Agency of the City of St Paul, MN; Housing Authority of Virginia, MN; Housing and Redevelopment Authority of the City of St. Paul, MN; Housing and Redevelopment Authority of St. Cloud, MN; Itasca County Housing Redevelopment Authority, MN; Northwest MN Multi-County Housing Redevelopment Authority, MN; Metropolitan Council of MN; Clay County Housing Redevelopment Authority, MN; Plymouth Housing & Redevelopment Authority, MN; Stearns County Housing Redevelopment Authority, MN: Washington County Housing Redevelopment Authority: Ripley County Public Housing Agency, MO; ESCSWA dba Jasper Cty Public Housing Agency, MO; Mississippi Regional Housing Authority No. VII, MS; Mississippi Regional Housing Authority No. VI, MS; Housing Authority of Billings, MT; Whitefish Housing Authority, MT; Missoula Housing Authority, MT; Housing Authority of the City of Asheville, NC; Housing Authority of the City of Greensboro, NC; Housing Authority of the City of Winston-Salem, NC; Housing Authority of the City of Durham, NC; Housing Authority of the City of Salisbury, NC; Mooresville Housing Authority, NC; City of Hickory Public Housing Authority, NC; New Edenton Housing Authority, NC; Asheboro Housing Authority, NC; Roanoke-Chowan Regional Housing Authority, NC; Western Carolina Community Action, Inc., NC; Northwestern Regional Housing Authority, NC; Omaha Housing Authority, NE; Hall County Housing Authority, NE; Kearney Housing Authority, NE; Henderson Housing Authority, NE; Minden Housing Authority, NE; Shelton Housing Authority, NE; Tilden Housing Authority, NE; Blair Housing Authority, NE; Gibbon Housing Authority, NE; Alliance Housing Authority, NE; Douglas County Housing Authority, NE; Norfolk Housing Agency, NE; Concord Housing Authority, NH; Laconia Housing & Redevelopment Authority, NH; Housing Authority of the Town of Salem, NH; New Hampshire Housing Finance Agency, NH; Housing Authority City of Jersey City, NJ; Burlington County Housing Authority, NJ; Mesilla Valley Public Housing Authority, NM; Housing Authority of the City of Truth or Consequences, NM; City of Reno Housing Authority, NV; Southern Nevada Regional Housing Authority, NV; Nevada Rural Housing Authority, NV; Syracuse Housing Authority, NY; Municipal Housing Authority City Yonkers, NY; Gloversville Housing Authority, NY; Ithaca Housing Authority, NY; Town of Amherst, NY; NYC Department of Housing Preservation and Development, NY; Village of Highland Falls, NY; Town of Southampton; Village of Elmira Heights, NY; City of North Tonawand, NY; Town of Colonie, NY; City of Buffalo, NY; Town of Clifton Park, NY; Town of Hadley, NY; Town of Guilderland, NY; Town of Bethlehem, NY; Town of Duanesburg, NY; Town of Niskayuna, NY; Town of Schodack, NY; Town of Horseheads, NY; City of Johnstown, NY; Town of Knox, NY; Town of Waterford, NY; Village of Scotia' Town of Glenville, NY; Town of Rotterdam, NY; Town of Corinth, NY; Fort Plain Housing Agency, NY; Village of Green Island, NY; Village of Corinth, NY; Town of Coeymans, NY; Town of Stillwater, NY; Village of Ballston Spa, NY; Town of Nassau, NY; Village of Waterford, NY; Youngstown Metropolitan Housing Authority, OH; Cuyahoga Metropolitan Housing Authority, OH; Lucas Metropolitan Housing Authority, OH; Akron Metropolitan Housing Authority, OH; Trumbull Metropolitan Housing Authority, OH; Jefferson Metropolitan Housing Authority, OH; Mansfield Metropolitan Housing Authority, OH; Springfield Metropolitan Housing Authority, OH; Huron Metropolitan Housing Authority, OH; Crawford Metropolitan housing Authority, OH: Geauga Metropolitan Housing Authority, OH; Warren Metropolitan Housing Authority; Seneca Metropolitan Housing Authority; Marion Metropolitan Housing Authority, OH; City of Marietta, OH; Brown Metropolitan Housing Authority, OH; Hancock Housing Authority, OH; Housing Authority of the City of Stillwater, OK; Housing Authority of Clackamas County, OR; Housing Authority of Lincoln County, OR; Housing Authority & Community Services of Lane County, OR; Housing Authority of the County of Umatilla' Housing and Urban Renewal Agency of Polk County, OR; North Bend Housing Authority, OR; Housing Authority of Jackson County, OR; Housing Authority of Yamhill County, OR; Linn-Benton Housing Authority, OR; Coos-Curry Housing Authority, OR; Housing Authority of Washington County, OR; Northwest Oregon Housing Authority, OR; Josephine Housing Community Development Council, OR; Central Oregon Regional Housing Authority, OR; Housing Authority of the City of Pittsburgh, PA; Allentown Housing Authority, PA; Allegany Housing Authority, PA: Chester Housing Authority. PA: Housing Authority of the County Butler, PA; Montgomery County Housing Authority, PA; Housing Authority of the County of Beaver, PA; Washington County Housing Authority, PA: Housing Authority of the County Delaware, PA; Housing Authority of the County of Huntingdon, PA; Housing Authority of the County of Franklin, PA; Housing Authority of the City of Hazleton, PA; Housing Authority of the County of Chester, PA; Bradford City Housing Authority, PA; Housing Authority of the County of Berks, PA; Housing Authority of the County of Cumberland, PA; Housing Authority of the County of McKean, PA; Lehigh County Housing Authority, PA; Columbia County Housing Authority, PA; Housing Authority of the County of Clarion, PA; Adams County Housing Authority, PA; Housing Authority Providence, RI; Housing Authority of the City of Pawtucket, RI; East Providence Housing Authority, RI; Greenville Housing Authority, SC; Housing Authority of Myrtle Beach, SC; Sioux Falls Housing and Redevelopment Commission, SD; Aberdeen Housing & Redevelopment Commission, SD; Memphis Housing Authority, TN; Knoxville's Community Development Corp., TN; Chattanooga Housing Authority, TN; Metropolitan Development & Housing Agency, TN; Kingsport Housing and Redevelopment Authority, TN; Murfreesboro Housing Authority, TN; Newport Housing Authority, TN; Bristol Housing Authority, TN; Elizabethton Housing and Development Agency, TN; East Tennessee Human Resource Agency, TN; Tennessee Housing Development Agency, TN; Northern Marianas Housing Corporation; Austin Housing Authority, TX; Housing Authority of the City of El Paso, TX; Housing Authority of Fort Worth, TX; Houston Housing Authority, TX; Housing Authority of the City of Dallas, TX; San Benito Housing Authority, TX; Housing Authority of Temple, TX; New Boston Property Management, TX; Housing Authority of the City of Munday, TX; Housing Authority of the City of Knox City, TX; Housing Authority of Belton, TX; Seguin Housing Authority, TX; Denton Housing Authority, TX; Arlington Housing Authority, TX; Housing Authority of Marshall, TX; City of Amarillo, TX; Housing Authority of the City of Rosenberg, TX; McKinney Housing Authority, TX; Housing Authority of Salt Lake City, UT; Housing Authority of Utah County, UT; Hopewell Redevelopment & Housing Authority, VA; Richmond Redevelopment & Housing Authority, VA; Roanoke Redevelopment & Housing Authority, VA; Hampton Redevelopment & Housing Authority, VA; Fairfax County Redevelopment & Housing Authority, VA; Lee County Redevelopment & Housing Authority, VA; Accomack-Northampton Regional Housing Authority, VA; Virgin Islands Housing Authority; Brattleboro Housing Authority, VT; Housing Authority of the City of Bremerton, WA; Housing Authority of the City of Everett, WA; Housing Authority City of Longview, WA; Housing Authority City of Bellingham, WA; Housing Authority of Snohomish County, WA; Housing Authority of Whatcom County, WA; Housing Authority of the City of Yakima, WA; Housing Authority of Thurston County, WA; Housing Authority of City of Spokane, WA; Housing Authority of the City of Walla Walla, WA; Housing Authority of the City of Milwaukee, WI; New London Housing Authority, WI; River Falls Housing Authority, WI; West Bend Housing Authority, WI; Antigo Housing Authority, WI; Waukesha Housing Authority, WI; Brown County Housing Authority, WI; Janesville Neighborhood Services, WI; Walworth County Housing Authority, WI; Barron County Housing Authority, WI; Richland County Housing Authority, WI; New Berlin Housing Authority, WI; Waukesha County Housing Authority, WI; Wisconsin Housing & Economic Development Authority, WI; Fairmont/Morgantown Housing Authority, WV; Housing Authority of the City of Beckley, WV; and Housing Authority of Raleigh County, WV.

Nature of Requirement: The alternative requirements to regulatory requirements that were offered under the original notice and extended by the second notice were the following: The notice allows PHAs to use participants' actual past income to verify income, which would be a waiver of the requirement to project expected income in 24 CFR 5.609(a)(2). The notice allows households to self-certify as to having assets of less than $5,000, which would be a waiver of the requirement under 24 CFR 5.609(b)(3), 982.516(a)(2)(ii), and 960.259(c) for PHAs to verify assets. The notice allows a streamlined reexamination of income for elderly families and disabled families on fixed incomes, which would be a waiver of the requirement in 24 CFR 982.516 and 960.257 for PHAs to undertake the complete process for income verification and rent determination for families on fixed incomes. The notice allows PHAs to establish a payment standard of not more than 120 percent of the fair market rent without HUD approval as a reasonable accommodation, which would be a waiver of 24 CFR 982.503(c)(2)(B)(ii), which allows a PHA to establish a payment standard for the housing choice voucher program only but within limits currently permitted but designated for approval only by a HUD field office.

Granted By: Sandra B. Henriquez, Assistant Secretary for Public and Indian Housing.

Dates Granted: January 2013 through March 2015.

Reason Waived: The waivers and alternative requirements were granted because they would help facilitate the ability of PHAs to continue, without interruption and with minimal burden, the delivery of rental assistance to eligible families in their communities. Increased demand for housing assistance without corresponding increased resources strains the operations of PHAs and jeopardizes their ability to assist families at a time when families most need housing assistance.

Contact: Todd Thomas, Senior Program Specialist, Public Housing Management and Occupancy Division, Office of Public and Indian Housing, Department of Housing and Urban Development, 451 7th Street SW., Room 4210, Washington, DC 20410, telephone 202-402-5849.

• Regulation: 24 CFR 982.503(c), 982.503(c)(4)(ii) and 982.503(c)(5).

Project/Activity: Dunn County Housing Authority (DCHA), McKenzie County Housing Authority (MCHA), Bowman County Housing Authority (BCHA), Adams County Housing Authority (ACHA), Hettinger County Housing Authority (HCHA), Billings County Housing Authority (BCHA), Slope County Housing Authority (SCHA), Golden Valley County Housing Authority (GVCHA), Stark County Housing Authority (SCHA), ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Jemine A. Bryon, Acting Assistant Secretary for Public and Indian Housing.

Date Granted: October 17, 2014.

Reason Waived: These waivers were granted because of increased economic activity due to natural resource exploration.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Burleigh County Housing Authority (BCHA), Bismarck, ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Jemine A. Bryon, Acting Assistant Secretary for Public and Indian Housing.

Date Granted: November 19, 2014.

Reason Waived: These waivers were granted because of increased economic activity due to natural resource exploration.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Arvada Housing Authority (AHA), Arvada, CO.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: October 1, 2014.

Reason Waived: The participant, who is a person with disabilities, required an exception payment standard to move to a more accessible unit. To provide this reasonable accommodation so the client could move to a new unit and pay no more than 40 percent of her adjusted income toward the family share, the AHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: West Valley Housing Authority (WVHA), Dallas, OR.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: October 23, 2014.

Reason Waived: The applicant, who is a person with disabilities, required an exception payment standard to remain in her current unit that met her needs. To provide this reasonable accommodation so that the client could remain in her unit and pay no more than 40 percent of her adjusted income toward the family share, the WVHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of Grays Harbor County (HAGHC), Aberdeen, WA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: December 10, 2014.

Reason Waived: The applicant, who is a person with disabilities, required an exception payment standard to remain in her current unit that met her needs. To provide this reasonable accommodation so that the client could remain in her unit and pay no more than 40 percent of her adjusted income toward the family share, the HAGHC was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Rhode Island Housing (RHI), Providence, RI.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: December 17, 2014.

Reason Waived: The participant, who is a person with disabilities, required an exception payment standard to move to a unit that meets her needs. To provide this reasonable accommodation so the family could move to a new unit and pay no more than 40 percent of its adjusted income toward the family share, RHI was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: December 17, 2014.

Reason Waived: The applicant was a person with disabilities who required an exception payment standard to move to a unit that met his needs. To provide this reasonable accommodation so that the client could move to a new unit and pay no more than 40 percent of his adjusted income toward the family share, the SFHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Howard County Housing (HCH), Columbia, MD.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: December 29, 2014.

Reason Waived: The participant, who is a person with disabilities, required an exception payment standard to move to a new unit. To provide this reasonable accommodation so the family could move to a new unit and pay no more than 40 percent of its adjusted income toward the family share, HCH was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: City of Roseville Housing Authority (CRHA), Roseville, CA.

Nature of Requirement: HUD's regulation at 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: December 29, 2014.

Reason Waived: The applicant, who is a person with disabilities, required an exception payment standard to move to a new unit. To provide this reasonable accommodation so the family could move to a new unit and pay no more than 40 percent of his adjusted income toward the family share, the CRHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Hawaii Public Housing Authority (HPHA), Honolulu, HI.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: October 20, 2014.

Reason Waived: This waiver was granted since HPHA had technical difficulties in submitting its certification. HPHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Fort Wayne Housing Authority (FWHA), Fort Wayne, IN.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: November 7, 2014.

Reason Waived: This waiver was granted since the executive director had a death in his family at the time the SEMAP certification was due. FWHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC, 20410, telephone (202) 708-0477.

• Regulation: 24 CFR 985.101(a).

Project/Activity: Housing Authority of the City of Meriden (HACM), Meriden, CT.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: December 17, 2014.

Reason Waived: This waiver was granted since the SEMAP certification had been submitted timely, but incorrectly into PICTEST. HACM was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Palm Beach County Housing Authority (PBCHA), West Palm Beach, FL.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: December 17, 2014.

Reason Waived: This waiver was granted since the SEMAP certification had been submitted timely, but with an error message that could not be validated. PBCHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Mercer County Housing Authority (MCHA), Aledo, IL.

Nature of Requirement: HUD's regulation at 24 CFR 985.101(a) states a PHA must submit the HUD-required Section Eight Management Assessment Program (SEMAP) certification form within 60 calendar days after the end of its fiscal year.

Granted By: Jemine A. Bryon, Acting Assistant Secretary for Public and Indian Housing.

Date Granted: December 29, 2014.

Reason Waived: This waiver was granted since it the executive director was new and notification emails regarding SEMAP submission were sent to the wrong email address. MCHA was permitted to submit its SEMAP certification after the due date.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 1000.327(b).

Project/Activity: Asa'Carsarmiut Tribe of Mountain Village, Alaska 99632-0249; Stebbins Community Association of Stebbins, Alaska 99671; Bering Straits Regional Housing Authority of Nome, Alaska 99762; Native Village of Kivalina of Kivalina, AK 99750.

Nature of Requirement: HUD's regulation at 24 CFR 1000.327(b) requires Indian tribes in Alaska not located on a reservation to notify HUD in writing by September 15th that they or their Tribally Designated Housing Entity (TDHE) intends to submit an Indian Housing Plan (IHP) for the following fiscal year. If the tribe or their TDHE does not notify HUD, or notifies HUD that they do not intend to submit an IHP, HUD allocates the tribe's need formula data in the Indian Housing Block Grant formula to the tribe's regional tribe or regional corporation. HUD is required to allocate IHBG funds within 60 days of an appropriation, and prior notification ensures that HUD can properly allocate Alaska tribes' need data and make formula allocations in a timely manner.

Granted By: Jemine A. Bryon, Acting Assistant Secretary for Public and Indian Housing.

Date Granted: November 24, 2014.

Reason Waived: HUD granted the waiver because the tribes and TDHE would have lost out on critical Indian Housing Block Grant funding for the year. The waiver would not delay HUD's process because the Congressional appropriation for the upcoming fiscal year had not yet occurred. As such, the Department believed that there was good cause to waive the notification requirements of 24 CFR 1000.327(b).

Contact: Glenda N. Green, Director for the Office of Grants Management, Office of Native American Programs, Office of Public and Indian Housing, Department of Housing and Urban Development, 451 Seventh Street SW., Suite 5156, Washington, DC 20410, telephone (202) 402-6967.

• Regulation: 24 CFR 1000.224.

Project/Activity: Pueblo de Cochiti of Cochiti Pueblo, NM 87072-0070.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 20, 2014.

Reason Waived: A waiver was requested because of the unexpected resignation of the Executive Director based on health issues. The waiver was provided for no more than 90 days on the basis of exigent circumstances beyond its control.

Contact: Cheryl Dixon, Grants Management Specialist, Office of Grants Management, Office of Native American Programs, Office of Public and Indian Housing, Department of Housing and Urban Development, 500 Gold Avenue SW., Seventh FL, Suite 7301, Albuquerque, NM 87103-0906, telephone (505) 346-6924.

• Regulation: 24 CFR 1000.224.

Project/Activity: Hopi Tribal Housing Authority of Polacca, AZ 86042.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 22, 2014.

Reason Waived: A waiver was requested because a new Executive Director was in the process of being hired. The waiver was provided for no more than 90 days on the basis of exigent circumstances beyond its control.

Contact: Cristal Quinn, Grants Management Specialist, Office of Grants Management, Office of Native American Programs, Southwest Office of Native American Programs, Office of Public and Indian Housing, Department of Housing and Urban Development, One N. Central Ave., Phoenix, AZ 85004, telephone (602) 379-7206.

• Regulation: 24 CFR 1000.224.

Project/Activity: Resighini Rancheria of Klamath, CA 95548-0529.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 22, 2014.

Reason Waived: A waiver was requested because of new staff turnover, which resulted in technological problems in completing the IHP. The waiver was provided for no more than 90 days on the basis of exigent circumstances beyond its control.

Contact: Sarah Olson, Grants Management Specialist, Office of Grants Management, Office of Native American Programs, Southwest Office of Native American Programs, Office of Public and Indian Housing, Department of Housing and Urban Development, One N. Central Ave., Phoenix, AZ 85004, telephone (602) 379-7233.

• Regulation: 24 CFR 1000.224.

Project/Activity: Cahto Indians of the Laytonville Rancheria, Laytonville, CA 95454-1239.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 22, 2014.

Reason Waived: A waiver was requested because there were no housing funds available to pay the housing staff salary prior to completing the IHP. The Tribe needed time to re-hire the staff person to complete and submit the IHP. The waiver was provided for no more than 90 days on the basis of exigent circumstances beyond its control.

Contact: Daniel Celaya, Grants Management Specialist, Office of Grants Management, Office of Native American Programs, Southwest Office of Native American Programs, Office of Public and Indian, Housing Department of Housing and Urban Development, One N. Central Ave., Phoenix, AZ 85004, telephone (602) 379-7193.

• Regulation: 24 CFR 1000.224.

Project/Activity: Big Valley Tribe of Pomo Indians, Lakeport, CA 95453.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 22, 2014.

Reason Waived: A waiver was requested because a new Executive Director was in the process of being hired. The waiver was provided for no more than 90 days on the basis of exigent circumstances beyond its control.

Contact: Sarah Olson, Grants Management Specialist, Office of Grants Management, Office of Native American Programs, Southwest Office of Native American Programs, Office of Public and Indian Housing Department of Housing and Urban Development, One N. Central Ave., Phoenix, AZ 85004, telephone (602) 379-7233.

• Regulation: 24 CFR 1000.224.

Project/Activity: Summit Lake Paiute Tribe, Summit Lake, NV.

Nature of Requirement: HUD's regulation at 24 CFR 1000.224 that the Secretary may waive the applicability of the requirement to submit an Indian Housing Plan (IHP), in whole or in part, for a period of not more than 90 days, if the Secretary determines that an Indian tribe has not complied with, or is unable to comply with, those requirements due to exigent circumstances beyond the control of the Indian Tribe.

Granted By: Jemine A. Bryon, Acting Assistant Secretary for Public and Indian Housing.

Date Granted: October 28, 2014.

Reason Waived: A waiver was requested because the Tribal Council went through an internal reorganization; the person responsible for preparing the IHP was no longer associated with the Tribal Council. The Tribal Council will assign another council member to complete the IHP. The waiver was provided for no more than 90 days on the basis of exigent circumstances beyond its control.

Contact: Leticia Rodriguez, Grants Management Specialist, Office of Grants Management, Office of Native American Programs, Southwest Office of Native American Programs, Office of Public and Indian Housing, Department of Housing and Urban Development, 500 Gold Ave. SW., Seventh FL, Suite 7301, Albuquerque, NM 87103-0906, telephone (505) 346-6926.

[FR Doc. 2015-07183 Filed 3-30-15; 8:45 am]

BILLING CODE 4210-67-P